DEPARTMENT OF VETERANS AFFAIRS

[OMB Control No. 2900-0222]

Agency Information Collection Activity Under OMB Review: Application for Standard Government Headstone or Marker for Installation in Private or State Veterans Cemetery

AGENCY: National Cemetery Administration, Department of Veterans Affairs.

ACTION: Notice.

SUMMARY: In compliance with the Paperwork Reduction Act (PRA) of 1995, this notice announces that the National Cemetery Administration, Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0222.”

FOR FURTHER INFORMATION CONTACT: VA PRA information: Maribel Aponte, 202-461-8900, vacopaperworkreduact@va.gov.

SUPPLEMENTARY INFORMATION:

Title: VA Form 40-1330, Claim for Standard Government Headstone or Marker, and VA Form 40-1330M, Claim for Government Medallion for Placement in a Private Cemetery.

OMB Control Number: 2900-0222 https://www.reginfo.gov/public/do/PRASearch.

Type of Review: Revision of a currently approved collection.

Abstract: The major use of the VA40-1330 and 40-1330M forms is to evaluate an applicant's claim for the benefit. VA Form 40-1330 and 40-1330M are required to provide data regarding the number of requests for a Government-furnished headstone or marker, or medallion, respectively each year.

An agency may not conduct or sponsor, and a person is not required to respond to a collection of information unless it displays a currently valid OMB control number. The Federal Register Notice with a 60-day comment period soliciting comments on this collection of information was published at 89 FR 45748, May 23, 2024.

Affected Public: Individuals or Households.

Estimated Annual Burden: 45,759 hours.

Estimated Average Burden per Respondent: 15 minutes.

Frequency of Response: One time.

Estimated Number of Respondents: 183,035.

Authority: 44 U.S.C. 3501 et seq.

Dorothy Glasgow,
VA PRA Clearance Officer (Alt), Office of Enterprise and Integration, Data Governance Analytics, Department of Veterans Affairs.

[FR Doc. 2024-16531 Filed 7-25-24; 8:45 am]

BILLING CODE 8320-01-P